NUCLEAR REGULATORY COMMISSION

[Project No. 753; NRC-2013-0007]

Models for Plant-Specific Adoption of Technical Specifications Task Force Traveler TSTF-426, Revision 5, “Revise or Add Actions To Preclude Entry Into LCO 3.0.3—RITSTF Initiatives 6B & 6C,” Using the Consolidated Line Item Improvement Process

AGENCY: Nuclear Regulatory Commission.

ACTION: Notice of Availability.

SUMMARY: The U.S. Nuclear Regulatory Commission (NRC) is announcing the availability of Technical Specifications (TSs) Task Force (TSTF) Traveler TSTF-426, Revision 5, “Revise or Add Actions to Preclude Entry into LCO [Limiting Condition for Operation] 3.0.3—RITSTF [Risk-Informed TSTF] Initiatives 6B & 6C,” for plant-specific adoption using the Consolidated Line Item Improvement Process (CLIIP). Additionally, the NRC staff finds the proposed TS (Volume 1) and TS Bases (Volume 2) changes in Traveler TSTF-426 acceptable for inclusion in the following Standard Technical Specification (STS): NUREG-1432, “Standard Technical Specifications Combustion Engineering Plants.”

ADDRESSES: Please refer to Docket ID NRC-2013-0007 when contacting the NRC about the availability of information regarding this document. You may access information related to this document, which the NRC possesses and is publicly available, using any of the following methods:

• Federal Rulemaking Web site: Go to http://www.regulations.gov and search for Docket ID NRC-2013-0007. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. TSTF-426, Revision 5, includes a model application and is available in ADAMS under Accession No. ML113260461. The model safety evaluation (SE) for plant-specific adoption of TSTF-426, Revision 5, is available in ADAMS under Accession No. ML13036A381. Minor editorial comments were received from the Notice of Opportunity for Public Comment announced in the Federal Register on January 17, 2013 (78 FR 3921); all comments were incorporated.

• NRC's PDR: You may examine and purchase copies of public documents at the NRC's PDR, Room O1-F21, One White Flint North, 11555 Rockville Pike, Rockville, Maryland 20852.

FOR FURTHER INFORMATION CONTACT: Mrs. Michelle C. Honcharik, Senior Project Manager, telephone: 301-415-1774, email: Michelle.Honcharik@nrc.gov; or for technical questions contact Mr. Carl Schulten, Senior Reactor Systems Engineer, telephone: 301-415-1192 or by email: Carl.Schulten@nrc.gov. Both of the Office of Nuclear Reactor Regulation, U.S. Nuclear Regulatory Commission, Washington, DC 20555-0001.

SUPPLEMENTARY INFORMATION: TSTF-426, Revision 5, is applicable to all Combustion Engineering-designed nuclear power plants. The change revises various TSs to add a Condition for loss of redundant features representing a loss of safety function for a system or component included within the scope of the plant TSs. It would replace Required Actions requiring either a default shutdown or explicit LCO 3.0.3 entry with a Required Action based on the risk significance for the system's degraded condition. This STS improvement is part of the CLIIP.

The NRC staff has reviewed the model application for TSTF-426 and has found it acceptable for use by licensees. Licensees opting to apply for this TS change are responsible for reviewing the NRC's staff SE and the applicable technical bases, providing any necessary plant-specific information, and assessing the completeness and accuracy of their license amendment request (LAR). The NRC will process each amendment application responding to the Notice of Availability according to applicable NRC rules and procedures.

The proposed changes do not prevent licensees from requesting an alternate approach or proposing changes other than those proposed in TSTF-426, Revision 5. However, significant deviations from the approach recommended in this notice or the inclusion of additional changes to the license require additional NRC staff review. This may increase the time and resources needed for the review or result in NRC staff rejection of the LAR. Licensees desiring significant deviations or additional changes should instead submit an LAR that does not claim to adopt TSTF-426, Revision 5.

Dated at Rockville, Maryland, this 20th day of May 2013.
For the Nuclear Regulatory Commission.
Anthony J. Mendiola,
Chief, Licensing Processes Branch, Division of Policy and Rulemaking, Office of Nuclear Reactor Regulation.

[FR Doc. 2013-12874 Filed 5-29-13; 8:45 am]

BILLING CODE 7590-01-P